DEPARTMENT OF COMMERCE

National Oceanic and Atmospheric Administration

RIN 0648-XS13

Marine Mammals; File No. 87-1743

AGENCY: National Marine Fisheries Service (NMFS), National Oceanic and Atmospheric Administration (NOAA), Commerce.

ACTION: Notice; receipt of application for permit amendment.

SUMMARY: Notice is hereby given that Daniel P. Costa, Ph.D., Long Marine Laboratory, University of California at Santa Cruz, 100 Shaffer Road, Santa Cruz, California 95060, has applied for an amendment to Scientific Research Permit No. 87-1743-05.

DATES: Written, telefaxed, or e-mail comments must be received on or before April 19, 2010.

ADDRESSES: The application and related documents are available for review by selecting “Records Open for Public Comment” from the Features box on the Applications and Permits for Protected Species home page, https://apps.nmfs.noaa.gov, and then selecting File No. 87-1743 from the list of available applications.

These documents are also available upon written request or by appointment in the following office(s):

Permits, Conservation and Education Division, Office of Protected Resources, NMFS, 1315 East-West Highway, Room 13705, Silver Spring, MD 20910; phone (301)713-2289; fax (301)713-0376; and

Southwest Region, NMFS, 501 West Ocean Blvd., Suite 4200, Long Beach, CA 90802-4213; phone (562)980-4001; fax (562)980-4018.

Written comments on this application should be submitted to the Chief, Permits, Conservation and Education Division, at the address listed above. Comments may also be submitted by facsimile to (301)713-0376, or by email to NMFS.Pr1Comments@noaa.gov. Please include the File No. in the subject line of the email comment.

Those individuals requesting a public hearing should submit a written request to the Chief, Permits, Conservation and Education Division at the address listed above. The request should set forth the specific reasons why a hearing on this application would be appropriate.

FOR FURTHER INFORMATION CONTACT: Amy Sloan or Dr. Tammy Adams, (301)713-2289.

SUPPLEMENTARY INFORMATION: The subject amendment to Permit No.87-1743-05 is requested under the authority of the Marine Mammal Protection Act of 1972, as amended (16 U.S.C. 1361 et seq.), and the regulations governing the taking and importing of marine mammals (50 CFR part 216).

Permit No. 87-1743-05, issued on September 29, 2009 (74 FR 52184), authorizes the permit holder to conduct long-term behavioral, physiological, and life history research studies on northern elephant seals (Mirounga angustirostris) in California. The permit expires on September 30, 2010. The permit holder is requesting an amendment to increase the number of weaned elephant seal pups weighed, measured, and flipper tagged by 100 animals in order to study the effects of a current El Nino event on weaned pup size and survival. The amendment would be valid for the duration of the permit.

In compliance with the National Environmental Policy Act of 1969 (42 U.S.C. 4321 et seq.), a supplemental environmental assessment (SEA) was prepared to analyze the effects of issuing Permit No. 87-1743-05, and a finding of no significant impact was signed on September 30, 2009. Based on the analysis in the SEA, NMFS has determined that issuance of Permit No. 87-1743-06 would not significantly impact the quality of the human environment and that preparation of an environmental impact statement is not required.

Concurrent with the publication of this notice in the Federal Register, NMFS is forwarding copies of this application to the Marine Mammal Commission and its Committee of Scientific Advisors.

Dated: March 15, 2010.
P. Michael Payne,
Chief, Permits, Conservation and Education Division, Office of Protected Resources, National Marine Fisheries Service.

[FR Doc. 2010-6083 Filed 3-18-10; 8:45 am]

BILLING CODE 3510-22-S